DEPARTMENT OF THE INTERIOR

Fish and Wildlife Service

Notice of Intent To Prepare a Comprehensive Conservation Plan for Cape Meares, Oregon Islands and Three Arch Rocks National Wildlife Refuges

AGENCY: Fish and Wildlife Service, Interior.

ACTION: Notice of intent and announcement of five public open house meetings.

SUMMARY: This notice advises the public that the U.S. Fish and Wildlife Service (Service) intends to prepare a Comprehensive Conservation Plan (CCP) for the Cape Meares, Oregon Islands and Three Arch Rocks National Wildlife Refuges (Refuges); and announces five public open house meetings. The Refuges are located in Clatsop, Tillamook, Lincoln, Lane, Coos and Curry Counties in Oregon. We are furnishing this notice to advise the public and other agencies of our intentions and obtain public comments, suggestions, and information on the scope of issues to include in the CCP.

DATES: Please provide written comments on the scope of the CCP by December 11, 2006. Five public open house meetings will be held to begin the CCP planning process; see SUPPLEMENTARY INFORMATION for dates, times, and locations.

ADDRESSES: Address comments, questions, and requests for further information to Project Leader, Oregon Coast National Wildlife Refuge Complex, 2127 SE Marine Science Drive, Newport, OR 97365. Comments may be faxed to the Refuge Complex office at (541) 867-4551, or e-mailed to FW1PlanningComments@fws.gov. Additional information concerning the Refuges is available on the Internet at http://www.fws.gov/oregoncoast/. Addresses for the public meeting locations are listed under SUPPLEMENTARY INFORMATION.

FOR FURTHER INFORMATION CONTACT: Roy W. Lowe, Project Leader, Oregon Coast National Wildlife Refuge Complex, phone (541) 867-4550.

SUPPLEMENTARY INFORMATION: The National Wildlife Refuge System Administration Act of 1966 (Refuge Administration Act), as amended (16 U.S.C. 668dd-668ee), requires all lands within the National Wildlife Refuge System to be managed in accordance with an approved CCP. A CCP guides a refuge's management decisions, and identifies long-range refuge goals, objectives, and strategies for achieving the purposes for which the refuge was established. During the CCP planning process many elements will be considered, including wildlife and habitat protection and management, and public use opportunities. Public input during the planning process is essential. The CCP for the Cape Meares, Oregon Islands, and Three Arch Rocks Refuges will describe the purposes and desired conditions for the Refuges and the long-term conservation goals, objectives, and strategies for fulfilling the purposes and achieving those conditions. The Service will prepare an environmental document for compliance with the National Environmental Policy Act (NEPA) of 1969, as amended, and NEPA's implementing procedures.

Background

Cape Meares National Wildlife Refuge is located on the Oregon coast between Tillamook Bay and Netarts Bay, and was established in 1938 through the acquisition of excess lands from the U.S. Coast Guard. The Refuge is comprised of two units separated by Cape Meares State Scenic Viewpoint, which is managed by Oregon Parks and Recreation Department (OPRD). Cape Meares Refuge includes vertical coastal cliffs, rock outcroppings, and rolling headlands, with an old-growth forest dominated by Sitka spruce and western hemlock. A smaller section of old-growth blowdown forest in early seral stage is also present within the Refuge boundary adjacent to a clearcut. Management programs at the Cape Meares Refuge are primarily focused on preserving the old growth forest, maintaining the integrity of a Research Natural Area, protecting seabird nesting colonies and a peregrine falcon eyrie, and providing opportunities for the public to learn about wildlife resources through wildlife viewing and interpretation on adjacent OPRD lands. Public use on the Cape Meares Refuge is managed cooperatively by the OPRD and the Service through a Memorandum of Agreement.

The Oregon Islands Refuge is located along 320 miles of the Oregon coast, and includes 1,853 rocks, islands and reefs, and two headlands (Coquille Point in Coos County, and Crook Point in Curry County). In 1970, 1978 and 1996, the rocks, islands and reefs within the Refuge were designated wilderness, with the exception of Tillamook Rock. The rocks, reefs and islands of Oregon Islands Refuge and wilderness lands were acquired to serve as a refuge and breeding ground for birds and marine mammals. The Coquille Point headland was acquired in 1991 to: Provide a buffer zone between the Refuge's offshore islands and mainland development; protect a bluff zone for the wildlife species that are dependent on it; and provide one of the best opportunities along the Oregon coast for wildlife observation. The Crook Point headland was acquired in 2000 to provide permanent protection to one of the few remaining undisturbed headlands on the Oregon coast, resulting in increased protection for major near shore seabird breeding colonies and pinniped pupping and haulout sites within the Oregon Islands Refuge. A relatively undisturbed intertidal zone, unique geological formations, rare plants, and cultural resource sites on the mainland are also protected within the Refuge.

The Three Arch Rocks Refuge is located a half-mile west of the town of Oceanside, and is comprised of nine rocks and islands encompassing 15 acres of seabird and marine mammal habitat. The Refuge was established in 1907 and was accorded Wilderness status in 1970. The Refuge is closed to public use to protect seabirds, marine mammals, and their habitats from human disturbance. A seasonal closure of the waters within 500 feet of the Refuge is enforced yearly from May 1 through September 15. Interpretation, wildlife photography, and wildlife observation are all existing public uses of Three Arch Rocks Refuge, which occur offsite at both Cape Meares State Scenic Viewpoint and from Oceanside Beach State Recreation Area.

Preliminary Issues, Concerns, and Opportunities

Preliminary issues, concerns, and opportunities that have been identified and may be addressed in the CCP, are briefly summarized below. Additional issues will be identified during public scoping.

During the CCP planning process, the Service will analyze methods for protecting the resources of the Cape Meares Refuge in the long term, while continuing to provide quality opportunities for wildlife-dependent recreation in partnership with OPRD, volunteers, and a Friends group.

At the Oregon Islands and Three Arch Rocks Refuges, the Service will identify and consider a wide range of techniques and partnerships in the CCP, for protection of the sensitive and irreplaceable wildlife, habitat, and cultural resources contained within these Refuges. Opportunities for the public to enjoy the Refuges will be examined. The Service will also evaluate the extensive inventory, monitoring, and research needs of these Refuges, within the context of Refuge needs and priorities, and in the wider context of regional, national, and international conservation priorities, and will analyze and determine methods for prioritizing and accomplishing these needs.

Public Meetings

Five public open house meetings will be held in November 2006. The public open house meetings will be held on weeknights between 6:30 p.m. and 8:30 p.m. Addresses and dates for the public meetings follow.

1. November 1, 2006, Newport High School, Boone Center Room, 322 NE Eads St., Newport, OR 97365.

2. November 6, 2006, Oceanside Community Center, 1550 Pacific St., Oceanside, OR 97134.

3. November 8, 2006, Cannon Beach Elementary School, 268 Beaver, Cannon Beach, OR 97110.

4. November 14, 2006, Brookings High School Auditorium, 564 Fern St., Brookings, OR 97415.

5. November 15, 2006, Bandon High School Cafeteria, 550 Ninth Street, SW., Bandon, OR 97411.

Opportunities for public input will be announced throughout the CCP planning process. All comments received from individuals become part of the official public record. Requests for such comments will be handled in accordance with the Freedom of Information Act, NEPA, and Service and Departmental policies and procedures.

Dated: September 25, 2006.
David J. Wesley,
Acting Regional Director, Region 1, Portland, Oregon.

[FR Doc. E6-17940 Filed 10-25-06; 8:45 am]

BILLING CODE 4310-55-P